DEPARTMENT OF HEALTH AND HUMAN SERVICES

Centers for Disease Control and Prevention

[30Day-09-09AA]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

BioSense—Recruitment of Data Sources—Existing Data Collection Without an OMB Number—National Center for Public Health Informatics (NCPHI), Coordinating Center for Health Information and Service (CCHIS), Centers for Disease Control and Prevention (CDC).

Background and Brief Description

Congress passed the Public Health Security and Bioterrorism Preparedness and Response Act of 2002, which requires specific activities related to bioterrorism preparedness and response. This congressional mandate outlines the need for improving the overall public's health through electronic surveillance. The Department of Health and Human Services outlined strategies aimed at achieving this goal via the Public Health IT Initiative thereby creating the BioSense program.

BioSense is a national, human health surveillance system designed to improve the nation's capabilities for disease detection, monitoring, and real-time health situational awareness. This work is enhanced by providing public health real-time access to existing data from healthcare organizations, state syndromic surveillance systems, national laboratories, and others for just in time public health decisionmaking; this information is made available to users in the BioSense Application. The application provides data, charts, graphs, and maps through a secure Web-based interface which can be accessed by CDC and authorized users from state and local public health departments and healthcare organizations.

In order to meet the congressional mandate, the BioSense program must have access to electronic health data. Recruitment of data sources includes collecting information on the types of data available, the types of computer systems used, and the approximate record volume. This information is used by BioSense personnel and contractors to determine technical requirements for linking a data source into the BioSense program. To collect this information, a series of questionnaires in an Excel spreadsheet have been designed. Information collection will take place during and after on-site visits by BioSense personnel and contractors. We estimate that such information will be collected from 20 new entities (each representing many facilities or clinics) each year.

Since the publication of the 60-day Federal Register Notice, the information collection instrument for the provision of access to the BioSense Application has been included in this information collection request. Access to the BioSense Application is obtained using an automated data collection form. This form is completed on the Internet via the CDC Secure Data Network (SDN) in which a prospective user identifies what activities are requested. Potential users must request and receive permission to view the BioSense Application. Federal rules mandate that this permission be renewed each year. We estimate about 800 users per year will need to request new or continued access to the BioSense Application.

There is no cost to respondents other than their time. The total estimated annual burden hours are 147 hours.

Estimated Annualized Burden Hours
Type of respondents | Number of respondents | Number of responses per respondent | Average burden per response (in hours)
Recruitment of Prospective Data Source Entities
Federal, State & Local Governments, Private Sector | 20 | 1 | 4
Access to BioSense Application
Federal, State & Local Governments, Private Sector | 800 | 1 | 5/60

Dated: August 14, 2009.
Maryam I. Daneshvar,
Acting Reports Clearance Officer, Centers for Disease Control and Prevention.

[FR Doc. E9-20000 Filed 8-19-09; 8:45 am]

BILLING CODE 4163-18-P